DEPARTMENT OF HOMELAND SECURITY

Federal Emergency Management Agency

[Docket ID FEMA-2022-0002; Internal Agency Docket No. FEMA-B-2292]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before March 16, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2292, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

Community | Community map repository address
Colusa County, California and Incorporated Areas
Project: 15-09-0411S Preliminary Date: June 10, 2022
City of Colusa | Public Works Department, 425 Webster Street, Colusa, CA 95932.
City of Williams | City Hall, 810 East Street, Williams, CA 95987.
Unincorporated Areas of Colusa County | Public Works Building, 1215 Market Street, Colusa, CA 95932.
Hinsdale County, Colorado and Incorporated Areas
Project: 20-08-0053S Preliminary Date: May 20, 2022
Town of Lake City | Town Hall, 230 North Bluff Street, Lake City, CO 81235.
Unincorporated Areas of Hinsdale County | Hinsdale County Courthouse, 311 Henson Street, Lake City, CO 81235.
Kingsbury County, South Dakota and Incorporated Areas
Project: 20-08-0007S Preliminary Date: March 29, 2022
City of De Smet | City Hall, 106 Calumet Avenue Southeast, De Smet, SD 57231.
City of Iroquois | City Hall, 320 East Washita Street, Iroquois, SD 57353.
Unincorporated Areas of Kingsbury County | Kingsbury County Courthouse, 202 2nd Street Southeast, De Smet, SD 57231.
Klickitat County, Washington and Incorporated Areas
Project: 19-10-0013S Preliminary Date: March 31, 2022
City of Bingen | City Hall, 112 North Ash Street, Bingen, WA 98605.
City of Goldendale | City Hall, 1103 South Columbus Avenue, Goldendale, WA 98620.
City of White Salmon | City Hall, 100 North Main Street, White Salmon, WA 98672.
Unincorporated Areas of Klickitat County | Klickitat County Services Building, 115 West Court Street, Mail Stop 302, Goldendale, WA 98620.
Thurston County, Washington and Incorporated Areas
Project: 19-10-0005S Preliminary Date: June 24, 2022
City of Lacey | City Hall, 420 College Street Southeast, Lacey, WA 98503.
City of Olympia | City Hall, 601 4th Avenue East, Olympia, WA 98501.
City of Rainier | City Hall, 102 Rochester Street West, Rainier, WA 98576.
City of Tumwater | City Hall, 555 Israel Road Southwest, Tumwater, WA 98501.
Unincorporated Areas of Thurston County | Thurston County Courthouse, 2000 Lakeridge Drive Southwest, Building One, Olympia, WA 98502.

[FR Doc. 2022-27336 Filed 12-15-22; 8:45 am]

BILLING CODE 9110-12-P